DEPARTMENT OF TRANSPORTATION

Pipeline and Hazardous Materials Safety Administration

Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (March to March 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on April 9, 2013.
Donald Burger,
Chief, Special Permits and Approvals Branch.

S.P No. | Applicant | Regulation(s) | Nature of special permit thereof
MODIFICATION SPECIAL PERMIT GRANTED
14951-M | Hexagon Lincoln, Inc., Lincoln, NE | 49 CFR 173.302a | To modify the special permit to authorize an alternative fire protection system.
11624-M | Clean Harbors Environmental Services, Inc., Norwell, MA | 49 CFR 173.173(b)(2) | To modify the special permit to authorize an additional packaging.
14848-M | Corning Incorporated, Corning, NY | 49 CFR 172.202, 172.301, 172.400, 172.504 and 177.834(h) | To modify the special permit to authorize liquefied nitrogen without requiring shipping papers, labeling or placarding.
NEW SPECIAL PERMIT GRANTED
15743-N | Midwest Cylinder, Inc., Cleves, OH | 49 CFR 180.211(c)(2)(i) | To authorize the repair of certain DOT 4L cylinders without requiring pressure testing. (mode 1).
15769-N | KMG Chemicals, Houston, TX | 49 CFR 172.102 Table 2 IP2 | To authorize the transportation of solid pentachlorophenol on flatbed trailers. (mode 1)
15773-N | Roche Molecular Systems, Inc., Branchburg, NJ | 49 CFR 173.242(e)(1) | To authorize the transportation in commerce of PG II corrosive materials described as Potassium Hydroxide Solution, UN 1814 and Sodium Hydroxide Solution, UN 1824 in a UN 50G Fiberboard Large Packaging. (modes 1, 2, 3)
15804-N | ThermoFisher Scientific, LLC, Pittsburgh, PA | 49 CFR 172.101, HMT Column (7), and 107.102 Special Provision N5 | To authorize the transportation in commerce of dry titanium powder in glass packaging. (modes 1, 2, 3)
EMERGENCY SPECIAL PERMIT GRANTED
15428-M | National Aeronautics and Space Administration (NASA), Washington, DC | 49 CFR Part 172 and 173 | To modify the special permit to authorize additional hazardous materials, add an additional transport fixture and add cargo vessel as a mode of transportation. (modes 1, 3)
15816-N | Air Transport International, LIttle Rock, AR | 49 CFR 172.101 Column (9B) | To authorize the one-time transportation in commerce of certain explosives that are forbidden for transportation by cargo only aircraft. (mode 4)
15819-N | Air Transport International, Little Rock, AR | 49 CFR 172.101 Column (9B) | To authorize the one-time transportation in commerce of certain explosives that are forbidden for transportation by cargo only aircraft. (mode 4)
15831-N | Space Exploration Technologies Corp., Hawthorne, CA | 49 CFR Part 172 and 173 | To authorize the transportation in commerce of certain hazardous material as part of the Dragon space capsule without requiring shipping papers, marking and labeling. (modes 1, 3)
15835-N | Environment First, Inc., Jeffersonville, IN | 49 CFR 173.315 | To authorize the one time transportation in commerce of a Division 2.2 material (1,1,1,2-Tetrafluorethane) in a non-DOT specification IMO Type 5 portable tank. (mode 1)
15840-N | Airgas USA, LLC Cheyenne, WY | 49 CFR 173.3(e) | To authorize the transportation in commerce of a DOT Specification 3AA cylinder containing anhydrous ammonia that developed a leak and is equipped with a Chlorine Institute Kit “A” to prevent leakage during transportation. (mode 1)
NEW SPECIAL PERMIT WITHDRAWN
15808-N | U.S. Department of Defense (DOD), Scott AFB, IL | 49 CFR 171.22(e), 172.101 Column (9A), and 173.62 | To authorize the transportation of forbidden explosives by air. (modes 1, 2, 3, 4, 5)
15822-N | Thatcher Transportation, Inc., Salt Lake City, UT | 49 CFR 49 CFR Parts 106, 107 and 171-180. | To authorize self requalificaiton of chlorine ton containers. (mode 1)
DENIED
15709-N | Request by Praxair Distribution, Inc. Danbury, CT March 14, 2013. To authorize the transportation in commerce of foreign manufactured cylinders that are not equipped with pressure relief devices.
15728-N | Request by Brenner Tank LLC Fond du Lac, WI March 12, 2013. To authorize the manufacture, mark, sale, and use of non-DOT specification FRP cargo tanks conforming to specification DOT 407, DOT 412, or combination thereof.

[FR Doc. 2013-09402 Filed 4-23-13; 8:45 am]

BILLING CODE 4910-60-M